DEPARTMENT OF TRANSPORTATION

Federal Aviation Administration

14 CFR Part 93

[Docket No.: FAA-2015-3980; Amdt. No. 93-100]

RIN 2120-AK74

Pearson Field Airport Special Flight Rules Area

AGENCY: Federal Aviation Administration (FAA), DOT.

ACTION: Final rule.

SUMMARY: The FAA is establishing a Special Flight Rules Area in the vicinity of Pearson Field Airport, Vancouver, Washington. Pearson Field Airport is located approximately three nautical miles northwest of Portland International Airport, Portland, Oregon. The close proximity of the airport traffic patterns and approach courses create converging flight paths between traffic on approach to Portland International Airport and traffic at Pearson Field Airport, increasing the risk for near mid-air collision, mid-air collision and wake turbulence events. The intended effect of this action is to mitigate the identified risk by establishing operating requirements applicable to all aircraft when operating within a designated area at Pearson Field Airport, which would increase overall system efficiency and safety.

DATES: Effective November 10, 2016, except for amendatory instruction #1, which is effective September 12, 2016.

ADDRESSES: For information on where to obtain copies of rulemaking documents and other information related to this final rule, see “How to Obtain Additional Information” in the SUPPLEMENTARY INFORMATION section of this document.

FOR FURTHER INFORMATION CONTACT: Patrick Moorman, Airspace and Rules Team, AJV-115, Federal Aviation Administration, 800 Independence Avenue SW., Washington, DC 20591; telephone (202) 267-8783; email Patrick.moorman@faa.gov.

SUPPLEMENTARY INFORMATION:

I. Executive Summary

This rule establishes a special flight rules area (SFRA) around Pearson Field Airport (Pearson Field) in which pilots will have to follow mandatory procedures. These procedures are necessary to assist in the separation of air traffic, and to ensure pilots are aware of potential traffic conflicts between aircraft operating at Pearson Field and Portland International Airport. The notice of proposed rulemaking (NPRM) was published on October 6, 2015. 80 FR 60310. The FAA received 16 comments to the NPRM. All but one of the commenters supported creation of the special flight rules area for Pearson Field. However, those commenters believed that findings from the Safety Risk Management Panel for Pearson Field should be expressly included in the regulation. Based on the comments received, the FAA has made one minor change to proposed 14 CFR 93.163 regarding operations over the runway or extended runway centerline of Pearson Field. This final rule will ensure safety of flight for aircraft operating at Pearson Field Airport and the adjacent Portland International Airport.

II. Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules. This rulemaking also is promulgated under the authority described in 49 U.S.C. 40103, which vests the Administrator with broad authority to prescribe regulations to assign the use of airspace necessary to ensure the safety of aircraft and the efficient use of airspace, and 49 U.S.C. 44701(a)(5), which requires the Administrator to promote safe flight of civil aircraft in air commerce by prescribing regulations and minimum standards for other practices, methods, and procedures necessary for safety in air commerce and national security.

III. Background and History

Pearson Field is located on the north bank of the Columbia River in Vancouver, Washington, approximately three nautical miles west of Portland International Airport, Portland, Oregon. Pearson Field is part of the Fort Vancouver National Historic Site, and is listed on the National Register of Historic Places. It is one of the oldest airports in the United States, and the longest continually operating airport west of the Mississippi. Pearson Field does not have an air traffic control tower.

Portland International Airport is located 10 miles northeast of downtown Portland and has over 300,000 annual operations, primarily scheduled air carriers conducting operations under Title 14 of the Code of Federal Regulations (14 CFR) part 121. It serves northern Oregon and southwest Washington with service to 120 cities worldwide. Due to the continued growth of Portland International Airport and the close proximity of Pearson Field, the FAA has identified safety issues.

The airspace area surrounding Pearson Field is excluded from the Portland International Airport Class C airspace area and is commonly referred to as the Pearson cutout. The runway 08 threshold at Pearson Field is directly below the instrument landing system (ILS) final approach course to Portland International Airport's runway 10L. Additionally, runway 10L was expanded to accommodate heavy aircraft and Boeing 757s. These operations increase the risk of wake turbulence events between Portland International Airport arrivals to runway 10L or departures from runway 28L/28R and aircraft operating at Pearson Field.

The Airport/Facility Directory (A/FD) lists the traffic pattern altitude at Pearson Field as 1029 feet mean sea level (MSL) or 1000 feet above ground level (AGL). The A/FD also instructs aircraft operating over the runway centerline or extended runway centerline at Pearson Field to “maintain at or below 700 feet MSL due to traffic and wake turbulence from overflying aircraft to/from Portland International Airport Runway 10L/28R.” This is because aircraft established on the Portland International Airport ILS final approach course to runway 10L pass directly over Pearson's runway 08 threshold at 1091 feet MSL (1062 feet AGL). The close proximity of the traffic pattern and the approach course create converging flight paths between aircraft on approach to Portland International Airport's runway 10L/10R and aircraft operating at Pearson Field.

These converging flight paths and the lack of vertical separation create potential safety concerns for aircraft operating at both Pearson Field and Portland International Airport, including risk of mid-air collision and wake turbulence events. Currently, there is no requirement for pilots to establish communications with air traffic control to receive traffic advisories. In particular, when Portland International Airport is operating on an east traffic flow and weather permits aircraft to operate under visual flight rules (VFR) at Pearson Field the occurrence of traffic collision avoidance system (TCAS) resolution advisories (RA) increases.

To mitigate the identified risk, FAA's Portland Approach Control took measures to increase safety, which included training controllers regarding flight paths into and out of Pearson Field, and refresher training regarding RAs, safety alerts and wake turbulence. Portland Air Traffic Control Tower established the “Pearson Advisory” position to provide traffic advisories to aircraft operating at Pearson Field. Additionally, recommended pilot communications and procedures were placed in the A/FD, which are voluntary but not required. While these mitigations have increased safety and pilot awareness, 20 TCAS RAs were reported and logged by air traffic control during calendar year 2014, and 18 TCAS RAs were reported and logged during calendar year 2015, reflecting an ongoing safety concern.

IV. The Final Rule

a. The Notice of Proposed Rulemaking

To address the safety concerns between traffic operating at Pearson Field and Portland International Airport, the FAA published a notice of proposed rulemaking to establish a SFRA at Pearson Field by adding new subpart N to part 93, where special air traffic rules are codified. 80 FR 60310 (October 6, 2015). The proposed rule provided a description of the airspace area (proposed § 93.162), communication requirements in the SFRA for both inbound and outbound flights (proposed § 93.163(a)), and procedural requirements necessary to reduce the risks associated with the operation (proposed § 93.163(c)).

That NPRM proposed to make the following voluntary practices in theA/FD and air traffic procedures applicable in the Pearson Field SFRA and mandatory for all pilots unless otherwise authorized by Air Traffic Control (ATC):

• Pilots must establish two-way radio communications with Pearson Advisory on the common traffic advisory frequency for the purpose of receiving air traffic advisories prior to entering the SFRA or taxiing onto the runway for departure. Additionally, pilots must continuously monitor the frequency at all times while operating within the designated airspace.

• When operating over the extended centerline of Pearson Field Runway 8/26, pilots must maintain an altitude at or below 700 feet MSL.

• Pilots must obtain the Pearson Field weather prior to establishing two-way communications with Pearson Advisory.

• Pilots must remain outside Portland Class C Airspace.

• Pilots must make a right-hand traffic pattern when operating to/from Pearson Field Runway 26.

• Pilots may operate in the area without establishing two-way radio communication, in the event of radio failure, provided that weather conditions at Pearson Field are at or above basic VFR weather minimums.

B. Comments Received

The FAA received sixteen comments to the NPRM: Nine from individuals (one individual submitted two comments, and another individual submitted three comments); and four comments from organizations: The Port of Portland, Washington Airport Management Association, the Pearson Field Airport Manager, and the Aircraft Owners and Pilots Association. Four of the nine individuals who commented to the notice of proposed rulemaking had previously participated in Safety Risk Management Panels related to Pearson Field.

One individual commenter supported the NPRM without change. Seven individuals and the four organizations expressed general support for the rulemaking action. All of the comments supporting the NPRM discussed concerns regarding the proposed rule and recommended changes to more closely align the rule with current safety risk management procedures. One individual commenter opposed the NPRM. A discussion of the comments received and FAA's responses follows.

The 2012 safety risk management panel and the proposed rule: The Port of Portland, Washington Airport Management Association, Pearson Field Airport Manager, Aircraft Owners and Pilots Association, and six individual commenters—four of whom had participated in previous Safety Risk Management Panels—supported replacing the Class D airspace at Pearson Field with Class E airspace accompanied by a special flight rule in part 93, provided that the final rule and charting included all procedural elements described in Safety Risk Management Document (SRMD) SRMD-PDX-VUO-SI-2012-2991, Appendices J, K, and L and Letter to Airmen LTA-PDX-01. Commenters asserted that these procedures, developed by the FAA and users as part of the 2012 Safety Risk Management Panel, have been shown to be safe and efficient for commercial and recreational pilots at both Pearson Field and Portland International Airport.

Commenters also argued that the proposed regulatory text has lost the intent of the Safety Risk Management Panel by removing certain provisions. Commenters believed that the proposed rule should include the specific language recommended within the Safety Risk Management Document. Commenters asserted that changes in the proposed regulatory text negate the risk management strategies the Panel approved in the SRMD and introduce new risk into the system in violation of the FAA's own process. Commenters also believed the intent of the rule is to codify and replace LTA-PDX-01. The Pearson Field Airport manager, AOPA, and two individuals provided specific recommendations to better align the SFRA with the current SRMD.

The purpose of this rulemaking is not to replace or codify the implemented mitigations discussed in SRMD-PDX-VUO-SI-2012-2991, including the procedural recommendations and provisions in Appendices J, K, and L. The FAA points out that initiation of a rule to establish a special flight rules area was not discussed or recommended in SRMD-PDX-VUO-SI-2012-2991.

Two commenters specifically requested that SRMD-PDX-VUO-SI-2012-2991 be referenced in the final rule, both in the preamble and the regulatory text. This is not appropriate. The safety mitigations as discussed in the SRMD were not regulatory and were implemented using appropriate means. Specifically, the content of Appendix J was placed as a special notice in theA/FD, the content of Appendix K was published in a Letter to Airman, and the content of Appendix L is reflected on the Seattle Sectional Aeronautical Chart. This rulemaking did not propose to amend, eliminate, or address any of the implemented mitigations resulting from SRMD-PDX-VUO-SI-2012-2991.

This rulemaking codifies the communications requirement, altitude limitation over the runway and runway centerline, and certain air traffic control (ATC) instructions that were listed in SRMD-PDX-VUO-SI-2012-2991 as existing controls already in place at the time of the panel's analysis but they were only recommendations. With this rulemaking, the FAA formalizes aspects of those existing controls.

Best practices for compliance, including procedural recommendations, and supplementary information are not appropriate to codify in the regulation but are appropriate for other FAA publications, such as the special notice placed in the A/FD. The FAA does not find that this rule is contradictory to, or would prevent a pilot from complying with, the procedural recommendations contained in other FAA publications for operations at Pearson Field Airport.

The safety mitigations currently in place are only strengthened by this rule. Pilots must comply with the special flight rules and should continue to comply with all recommended procedures when operating to and from Pearson Field. This rulemaking does not replace or amend that guidance.

Communication requirement: An individual believed that the proposal reduced (by omission) the inbound distance from Pearson Field that pilots are required to establish contact with Pearson Advisory from 5 miles to approximately 1.5 miles. The commenter asserted that this will result in increased traffic congestion over a populated area between 1,000 and 1,100 MSL in a small area northwest of Pearson Field and south of Vancouver Lake (thus increasing traffic conflict hazards and increasing noise over neighborhoods).

The commenters incorrectly understood the NPRM to state that a pilot should make his or her initial radio call when entering the traffic pattern. Rather, the proposal was to establish a mandatory requirement for a pilot to establish two-way radio communications with Pearson Advisory on the common traffic advisory frequency prior to entering the SFRA or taxiing onto the runway for departure. Additionally, pilots would have to continuously monitor the frequency at all times while operating within the designated airspace.

At Pearson Field, local procedures listed in the A/FD include a recommendation that arriving pilots contact Pearson Advisory at least 5 miles from the field to announce their position and intentions. Pilots should comply with all recommended procedures when operating to and from the airport; however, this rule makes it mandatory for a pilot to establish two-way radio communications prior to entering the SFRA. Codifying the 5 mile communication requirement would provide less flexibility to adjust local procedures as necessary.

Altitude limitation over the runway centerline: One individual pointed out that the rule language only limits the operating altitude over the runway centerline and not the over runway itself. The commenter believed this would allow an aircraft, over the runway, to climb to a potentially unsafe altitude. The FAA agrees with the commenter that this could create a potentially unsafe situation.

If a departing aircraft, or an aircraft completing a go-around, were to start a crosswind prior to reaching the runway end, it would be possible for that pilot to climb to an altitude greater than 700 feet above mean sea level without having operated over the extended runway centerline. The FAA has revised proposed § 93.163(c)(1) to read: “When operating over the runway or extended runway centerline of Pearson Field Runway 8/26 maintain an altitude at or below 700 feet above mean sea level.”

Circling aircraft: One commenter believed that the new SFRA will force incoming pilots to circle their aircraft at low altitudes for longer periods of time which could lead to noise complaints, wasted fuel, and contribute toward making Pearson Field less desirable. The commenter also believed that the SFRA could lead to a decrease in use of Pearson Field, as the rules make it harder for maintenance shops and flight schools to use Pearson for Touch-and-Go flights which bring money to Pearson Field. The commenter believed that this financial issue should be weighed with the option of putting a control tower in place.

In making certain voluntary practices mandatory for all pilots, unless otherwise authorized by ATC, this rule creates no more of a deterrent to pilots than currently exists under the voluntary procedures. Furthermore, establishment of the SFRA, along with charting of the area, will create greater awareness of the unique operating environment at Pearson Field and reduce the risk of a pilot operating to or from the airport without knowledge of the local procedures.

Existing procedures: The commenter who opposed the proposed rule believed that the A/FD entry for Pearson already has mandatory procedures concerning conflict avoidance, and a SFRA would be burdensome upon general aviation pilots in the area, and would act as a deterrent for transient pilots, who may choose another airport due to lack of SFRA knowledge. The commenter thus believed that the SFRA would harm the economic impact of this airport. The FAA disagrees. The intended effect of this action is to mitigate the identified risk by establishing requirements necessary when operating within an established area at Pearson Field, and to increase overall system efficiency and safety; the expected outcome will have only a minimal impact.

FAA guidance such as the procedures contained in the A/FD are not mandatory and do not constitute a regulation. This guidance is voluntary and is issued to outline methods of best practice for compliance to the regulations.

V. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it to be included in the preamble if a full regulatory evaluation of the cost and benefits is not prepared. Such a determination has been made for this final rule. The reasoning for this determination follows. The FAA received no comments on the initial regulatory evaluation minimal cost determination. The FAA makes the same determination herein and provides the logic below.

Due to the continued growth of Portland International Airport and the close proximity of Pearson Field, safety issues have been identified. To address the safety concerns between traffic operating at Pearson Field and Portland International Airport, the FAA is establishing a SFRA at Pearson Field in part 93. The final rule provides a description of the area, communication requirements for both inbound and outbound flights, and procedural requirements necessary to reduce the risks associated with the operation.

Currently, pilots voluntarily comply with procedures in the airport/facility directory, to establish two-way radio communications with Pearson Advisory, and to maintain at or below 700 feet above mean sea level when operating over the extended centerline of Pearson Field Runway 8/26. Additionally, air traffic control instructs pilots on Pearson advisory to obtain the Pearson Field weather, and to remain outside Portland Class C Airspace. As a result of being required to remain outside of Portland's Class C Airspace, pilots must make a non-standard right traffic pattern if landing on runway 26 at Pearson Field. A non-standard right traffic pattern is different, required for safety, but imposes only minimal cost. The other requirements of establishing two-way communication, obtaining the weather report, maintaining an altitude at or below 700 feet when operating over the runway, and remaining outside of Portland Class C Airspace are all minimal cost. The safety concern is real. Twenty TCAS resolution advisories (RAs) were reported and logged by air traffic control during calendar year 2014, and 18 TCAS RAs were reported and logged during calendar year 2015, reflecting an ongoing safety concern. By making the voluntary compliance mandatory, the FAA expects a decrease in the occurrence of, and will avoid an increase in, RAs. For the reasons discussed above, the cost of the rule will be minimal.

The FAA has, therefore, determined that this rule is not a “significant regulatory action” as defined in section 3(f) of Executive Order 12866, and is not “significant” as defined in DOT's Regulatory Policies and Procedures.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The FAA believes that this final rule does not have a significant economic impact on a substantial number of small entities for the following reasons. For the initial regulatory flexibility analysis the FAA explained while the rule would affect a substantial number of small entities, the costs would be minimal. We received no comments on that analysis. With this rule, the procedures and voluntary practices already in place will become mandatory. The intended effect of this action is to mitigate the identified risk by establishing requirements necessary when operating within an established area at Pearson Field, and to increase overall system efficiency and safety. The expected outcome will have only a minimal economic impact on small entities affected by this rulemaking action.

Therefore, as provided in section 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this final rule and determined that the rule would protect safety and is not considered an unnecessary obstacle to foreign commerce.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in lieu of $100 million. This final rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this final rule.

F. International Compatibility and Cooperation

In keeping with U.S. obligations under the Convention on International Civil Aviation, it is FAA policy to conform to ICAO Standards and Recommended Practices to the maximum extent practicable. The FAA has reviewed the corresponding ICAO Standards and Recommended Practices and has identified no corresponding standards with these regulations.

G. Environmental Analysis

FAA Order 1050.1F identifies FAA actions that are categorically excluded from preparation of an environmental assessment or environmental impact statement under the National Environmental Policy Act in the absence of extraordinary circumstances. The FAA has determined this rulemaking action qualifies for the categorical exclusion identified in paragraph 5-6.6f and involves no extraordinary circumstances.

VI. Executive Order Determinations

A. Executive Order 13132, Federalism

The FAA has analyzed this rule under the principles and criteria of Executive Order 13132, Federalism. The agency has determined that this action will not have a substantial direct effect on the States, or the relationship between the Federal Government and the States, or on the distribution of power and responsibilities among the various levels of government, and, therefore, will not have Federalism implications.

B. Executive Order 13211, Regulations That Significantly Affect Energy Supply, Distribution, or Use

The FAA analyzed this rule under Executive Order 13211, Actions Concerning Regulations that Significantly Affect Energy Supply, Distribution, or Use (May 18, 2001). The agency has determined that it will not be a “significant energy action” under the executive order and will not be likely to have a significant adverse effect on the supply, distribution, or use of energy.

C. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action will have no effect on international regulatory cooperation.

VII. Additional Information

A. Availability of Rulemaking Documents

An electronic copy of rulemaking documents may be obtained from the Internet by—

• Searching the Federal eRulemaking Portal (http://www.regulations.gov);

• Visiting the FAA's Regulations and Policies Web page at http://www.faa.gov/regulations_policies or

• Accessing the Government Publishing Office's Web page at http://www.fdsys.gov.

Copies may also be obtained by sending a request to the Federal Aviation Administration, Office of Rulemaking, ARM-1, 800 Independence Avenue SW., Washington, DC 20591, or by calling (202) 267-9677. Commenters must identify the docket, amendment, or notice number of this rulemaking.

All documents the FAA considered in developing this rule, including economic analyses and technical reports, may be accessed from the Internet through the Federal eRulemaking Portal referenced above.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act of 1996 (SBREFA) requires FAA to comply with small entity requests for information or advice about compliance with statutes and regulations within its jurisdiction. A small entity with questions regarding this document may contact its local FAA official, or the person listed under the FOR FURTHER INFORMATION CONTACT heading at the beginning of the preamble. To find out more about SBREFA on the Internet, visit http://www.faa.gov/regulations_policies/rulemaking/sbre_act/.

List of Subjects in 14 CFR Part 93

Air traffic control, Airports, Navigation (air).

The Amendment

In consideration of the foregoing, the Federal Aviation Administration amends chapter I of title 14, Code of Federal Regulations as follows:

PART 93—SPECIAL AIR TRAFFIC RULES

1. The authority citation for part 93 is added to read as follows:

Authority: 49 U.S.C. 106(f), 106(g), 40103, 40106, 40109, 40113, 44502, 44514, 44701, 44715, 44719, 46301.

2. Add subpart N to part 93 to read as follows:

Subpart N—Pearson Field (Vancouver, WA) Airport Traffic Rule
Sec.
93.161 Applicability.
93.162 Description of area.
93.163 Aircraft operations.

Subpart N—Pearson Field (Vancouver, WA) Airport Traffic Rule

§ 93.161 Applicability.

This subpart prescribes special air traffic rules for aircraft conducting VFR operations in the vicinity of the Pearson Field Airport in Vancouver, Washington.

§ 93.162 Description of area.

The Pearson Field Airport Special Flight Rules Area is designated as that airspace extending upward from the surface to but not including 1,100 feet MSL in an area bounded by a line beginning at the point where the 019° bearing from Pearson Field intersects the 5-mile arc from Portland International Airport extending southeast to a point 1½ miles east of Pearson Field on the extended centerline of Runway 8/26, thence south to the north shore of the Columbia River, thence west via the north shore of the Columbia River to the 5-mile arc from Portland International Airport, thence clockwise via the 5-mile arc to point of beginning.

§ 93.163 Aircraft operations.

(a) Unless otherwise authorized by ATC, no person may operate an aircraft within the airspace described in § 93.162, or taxi onto the runway at Pearson Field, unless-

(1) That person establishes two-way radio communications with Pearson Advisory on the common traffic advisory frequency for the purpose of receiving air traffic advisories and continues to monitor the frequency at all times while operating within the specified airspace.

(2) That person has obtained the Pearson Field weather prior to establishing two-way communications with Pearson Advisory.

(b) Notwithstanding the provisions of paragraph (a) of this section, if two-way radio communications failure occurs in flight, a person may operate an aircraft within the airspace described in § 93.162, and land, if weather conditions are at or above basic VFR weather minimums. If two-way radio communications failure occurs while in flight under IFR, the pilot must comply with § 91.185.

(c) Unless otherwise authorized by ATC, persons operating an aircraft within the airspace described in § 93.162 must—

(1) When operating over the runway or extended runway centerline of Pearson Field Runway 8/26 maintain an altitude at or below 700 feet above mean sea level.

(2) Remain outside Portland Class C Airspace.

(3) Make a right traffic pattern when operating to/from Pearson Field Runway 26.

Issued in Washington, DC, under the authority of 49 U.S.C. 106(f), 40103, and 44701(a)(5) on August 26, 2016.
Michael P. Huerta,
Administrator.

[FR Doc. 2016-21377 Filed 9-9-16; 8:45 am]

BILLING CODE 4910-13-P